DEPARTMENT OF STATE

[Delegation of Authority No. 348]

Delegation by the Secretary of State to the Assistant Secretary for International Security and Nonproliferation of Authority To Submit Certain Matters to Congress Regarding Implementation of the Additional Protocol

By virtue of the authority vested in me as Secretary of State, including Section 1 of the State Department Basic Authorities Act, as amended (22 U.S.C. 2651a), the United States Additional Protocol Act, Public Law 109-401 (the Act), and Section 3 of Executive Order 13458, dated February 4, 2008, I hereby delegate to the Assistant Secretary for International Security and Nonproliferation, to the extent authorized by law, the authority to make determinations, certifications, notifications, and reports to the Congress pursuant to:

(1) Sections 251, 252, 253, 272, and 275 of the Act; and

(2) Paragraphs 2, 4, 5, 6, and 7 of Section 3 of the Senate Resolution of Advice and Consent to Ratification of the Protocol Additional to the Agreement between the United States of America and the International Atomic Energy Agency for the Application of Safeguards in the United States of America (Senate Resolution).

Any act, executive order, regulation or procedure subject to, or affected by, this delegation shall be deemed to be such act, executive order, regulation, or procedure as amended from time to time. Notwithstanding this delegation of authority, the Secretary, the Deputy Secretary, the Deputy Secretary for Management and Resources, and the Under Secretary for Arms Control and International Security may at any time exercise any authority or function delegated by this delegation of authority.

This Delegation of Authority does not amend, supersede, or affect the validity of any other delegation of authority dealing with submission of reports to the Congress. This delegation of authority shall be published in the Federal Register.

Dated: February 13, 2013.
John F. Kerry,
Secretary of State.

[FR Doc. 2013-04708 Filed 2-28-13; 8:45 am]

BILLING CODE 4710-27-P